OFFICE OF NATIONAL DRUG CONTROL POLICY

Paperwork Reduction Act; Proposed Collection; Comment Request

AGENCY: Office of National Drug Control Policy.

ACTION: 60-Day notice.

SUMMARY: The Office of National Drug Control Policy (ONDCP) intends to submit the following information collection request to the Office of Management and Budget for review and approval. ONDCP seeks public comment.

Abstract: ONDCP will conduct face-to-face interviews and acquire urine samples from booked arrestees to obtain information concerning drug use; drug and alcohol treatment; and, drug market participation and arrests. Participation is voluntary.

Type of Information Collection: New Collection.

Title: Arrestee Drug Abuse Monitoring (ADAM II) Program Questionnaire.

Affected Public: Persons arrested and booked in one of 10 preselected booking facilities in the United States in one of two, 2-week data collection cycles spanning six months.

Estimated Burden: ADAM II proposes 10 sites that each conduct two cycles of surveys from 250 arrestees per cycle. The total number of participants is 5,000. The average survey estimate is 20 minutes. Total burden estimate is 1,667 hours.

Goals: ONDCP intends to obtain drug-use data that are directly comparable to data collected under the first three years of ADAM II (2007-2009) and the 2000-2003 National Institute of Justice sponsored Arrestee Drug Abuse Monitoring program; provide consistent data collection points to support statistical trend analysis for the use of heroin, cocaine, crack, marijuana and methamphetamine; monitor the spread or emergence of methamphetamine use; and, support ONDCP's efforts to estimate chronic drug use and examine drug market behaviors.

Comment Request: Public comments should address whether the proposed data are proper for the functions of the agency; whether the information will have practical utility; the accuracy of ONDCP's estimate of the burden of the proposed collection of information, including the validity of the methodology and assumptions; the quality, utility, and clarity of the information to be collected; and, the burden on proposed respondents, including the use of appropriate automated, electronic, mechanical, or other technological collection techniques or other forms of information technology, such as electronic submission of responses. Comments will be accepted for sixty days.

Contact: Robert L. Cohen, ONDCP, Research/Data Analysis, 750 17th Street #835, Washington, DC 20503; telephone (202) 395-5598; facsimile (202) 395-6562.

Dated: October 23, 2009.
Daniel R. Petersen,
Deputy General Counsel.

[FR Doc. E9-26016 Filed 10-28-09; 8:45 am]

BILLING CODE 3180-02-P